FEDERAL TRADE COMMISSION

Request for Contractor Submission of Final Invoices for Expired Contracts

AGENCY: Federal Trade Commission.

ACTION: Notice; request for final invoices.

SUMMARY: The Federal Trade Commission (“FTC” or “Commission”) currently has open files for contracts that have lapsed. The contract periods of performance for services and final delivery dates for goods have expired and the time allowed for contract file closeout is overdue. To clear the backlog of physically completed contracts (FAR 4.804) the FTC will utilize the procedure described below based on FAR 4.804-5 and 42.708 that will enable the Commission to close these files all at one time in an efficient and cost effective manner. No separate contract modifications will be issued.

DATES: The files are deemed closed as of the date of publication of this Notice. To facilitate the closeout, the FTC requests that contractors with contracts identified on the list, contained in Appendix A to this document, submit any outstanding invoices to the FTC Acquisition Division no later than September 13, 2019.

ADDRESSES: Contractors should submit invoices as attachments to email messages, which should be addressed to Acquisitions@ftc.gov.

FOR FURTHER INFORMATION CONTACT: Leonard Nadybal, Chief Acquisitions Officer, Federal Trade Commission, 600 Pennsylvania Avenue NW, Washington, DC 20580. Telephone: (202) 326-2298. Email: lnadybal@ftc.gov.

SUPPLEMENTARY INFORMATION: The FTC's backlog of files pose a significant burden on the Commission as this contracting office transitions from one contract writing system to another. Using standard file closure procedures on the volume of old existing files would impede efforts to modernize the FTC's procurement operation and hinder deployment of the interface between the contract writing system and the new financial management system. Importantly, not processing these file closeouts as quickly as possible will further delay contractors from receiving income from potential unpaid balances or leave them unaware that the claims process remains available.

The procedure takes into account that contractors have the right to concur with closure, to issue final invoices and make claims. The procedure is being be applied only to contracts deemed to be extremely low risk. For instance, the contracts listed in the Appendix have lapsed periods of performance, have no or only inconsequential amounts of funds obligated to them that need to be deobligated, have no option periods remaining to be exercised, contain no provisions for post-award adjustments of labor rates or incentives, and have not had any invoice or payment activity in Fiscal Year 2019.

The procedure to be applied was developed and used by other agencies to significantly and swiftly reduce the number of expired contracts with unliquidated funds, and will have mutual benefits for the government and contractors by enabling the Commission to expeditiously close these actions and pay final bills.

Notwithstanding the FTC's intention to close out expeditiously the files identified in Appendix A, contractors' rights are protected under 41 U.S.C. chapter 71 Contract Disputes (commonly known as the Contract Disputes Act of 1978), which establishes procedures for filing claims against Federal Government contracts. Normal contract file retention requirements will apply after closeout. (See 48 CFR 4.805).

This notice will also be published to FedBizOpps at https://www.fbo.gov/.

Leonard A. Nadybal,
Chief Procurement Officer/Assistant CFO.

Appendix A

List of Aged FTC Contracts To Be Closed Simultaneously

Note that the fiscal year of award is shown in the contract number as two digits that follow the prefixes “FTC” or “29FTC1”.

A suffix “A” indicates a modification to the contract or order.

Digits following a “/ ” (slash mark) indicate the number of a task order issued under the contract or agreement that is numbered to the left of the slash mark.

Confidential and classified contracts are grouped under generic company names “Domestic Awardees” and “Foreign Awardees”. The name of the contractor does not appear. If you believe you own one of the confidential or classified contracts and have an outstanding invoice or claim, contact the FTC Chief of Acquisitions through the email address in the document above.

3M COMPANY

29FTC117P0081

FTC11H1149

FTC13H3010

55 EAST MONROE INVESTORS IV LLC

FTC08H8036

601 NJ AVENUE LLC

FTC06H6087

FTC07H7120

FTC07H7165

FTC08H8064

FTC09H9098

FTC11H1064

FTC12H2006

FTC13H3001

A & T MARKETING, INC

FTC11G1173

A TECH SYSTEMS, INC.

FTC07H7128

AA TEMPS, INC

FTC07G7128

FTC08G8113

FTC10H0229

AAA COMPLETE BUILDING SERVICES, INC.

FTC11G1023

AAF MCQUAY, INC.

FTC08H8028

FTC09H9006

FTC10H0011

AARON GERSHBOCK

E071689001

ABERDEEN LLC

29FTC117F0169

ACACIA CONSULTING, INC.

FTC10H0197

ACCELERA SOLUTIONS INC.

FTC09G9202

29FTC116F0075

FTC10H0331

ACCELLION, INC

FTC10H0292

FTC11H1177

FTC12H2198

FTC13H3127

ACCESS INTELLIGENCE LLC

FTC09H9022A

FTC10H0048

FTC11H1081A

ACCESSAGILITY LLC

29FTC117F0049

29FTC117F0061

ACCESSDATA CORP.

FTC08H8082

FTC10H0144

ACCESSDATA GROUP, LLC

FTC11H1190

FTC12H2199

ACCUVANT FEDERAL SOLUTIONS INC

FTC13G3060

FTC13G3065

ACE DATA RECOVERY ENGINEERING, INC.

FTC08H8213

ACOUSTICAL SOLUTIONS, INC.

FTC10H0190

ACP PEACHTREE CENTER LLC

FTC11H1100

ACQUISITION SOLUTIONS, INC

FTC11H1137

ACTIONABLE INTELLIGENCE TECHNOLOGIES, INC.

29FTC116F0054

29FTC117F0088

FTC10H0267

FTC11H1125

FTC12H2071

ADLIB PUBLISHING SYSTEMS INC

FTC11H1094

ADVANCED COMPUTER CONCEPTS, INC.

29FTC116F0083

29FTC117F0101

ADVANTAGE WEB SOLUTIONS

FTC08H8097A

AFFIGENT, LLC

FTC11G1122

FTC11G1179

FTC12H2100

FTC12H2206

AINS, INC

FTC08G8069

FTC08G8279

FTC09G9053

FTC10G0065

FTC11G1040

FTC12G2047

FTC13G3039

AIR QUALITY SOLUTIONS, INC

FTC09H9044

AIR ROVER COMPANY, INC.

FTC09G9092

ALAMO CITY ENGINEERING SERVICES, INC

FTC15G5101

FTC15G5065

ALDERSON REPORTING COMPANY, INC

FTC10H0335

ALDOORS OF FLORIDA, INC.

FTC07H7020

ALLIANCE TECHNOLOGY GROUP, LLC

29FTC117F0005

29FTC117F0104

FTC11G1096

FTC12H2159

ALLSEATING CORP.

FTC08G8268

FTC09G9244

FTC09G9245

FTC10G0031

ALLSTEEL, INC

FTC07G7172

FTC07G7253

FTC08G8128

FTC08G8129

FTC08G8178

FTC08G8219

FTC08G8220

FTC09G9097

29FTC116C0137

FTC09G9139

FTC10G0113

FTC10G0131

FTC10G0162

FTC10G0196

FTC10G0214

FTC11G1155

FTC8G8090

ALON, INC

FTC10G0039

ALPHASIX CORP.

FTC15G5079

ALTUM, INC.

FTC12H2112A

ALVAREZ & ASSOCIATES LLC

29FTC116F0041

FTC12G2083

FTC12G2163

FTC13G3100

FTC16G6002

FTC16G6025

FTC15G5097

FTC16G6029

FTC16G6033

AMERICAN AMPLIFIER & TELEVISION INC.

29FTC117F0066

FTC08G8103

FTC08G8168

FTC08G8235

FTC08G8274

FTC08G8313

FTC09G9261

FTC10G0096

FTC10G0212

FTC10G0222

FTC10G0228

FTC10G0247

FTC11G1141

FTC12G2103

FTC08G8047

AMERICAN BAR ASSOCIATION

FTC10H0206

AMERICAN BUILDING CONTROL, INC

FTC09G9035

AMERICAN LAW INSTITUTE

FTC07H7175

FTC07H7181

AMERICAN RED CROSS

FTC09H9026

FTC09H9173

FTC10H0294

FTC07H7118

AMES, INC.

FTC10H0298

ANACAPA MICRO PRODUCTS, INC.

29FTC117F0126

ANALYSIS GROUP, INC.

29FTC117P0088

ANATOME INC.

FTC09G9122

ANGSTROMUSH, LLC

FTC15H5116

ANNAPOLIS TECHNOLOGIES, LLC

FTC07G7214

AOC SOLUTIONS, INC

FTC07G7277A

FTC08G8056

FTC08G8056A

FTC10H0026

FTC14A40040006

FTC14A40040008

FTC14A4004

FTC14A40040010

APERTURE FILMS, LTD.

FTC07G7305

FTC10G0099

FTC14Z4005/0002A

FTC14Z4005/0003A

FTC14Z40050004

FTC14Z40050006

FTC14Z40050009

APPLE COMPUTER INC.

FTC08G8152

FTC08G8244

FTC08G8250

FTC09G9176

APPLICATION SECURITY, INC

FTC08H8083

FTC09H9163

FTC10H0209

FTC11H1133

FTC12H2165

APPLIED DISCOVERY, INC.

FTC08H8018

FTC08H8117

FTC08H8140

FTC08H8175

FTC08H8201

FTC09H9103

FTC09H9217

APPLIED DNA SCIENCES, INC.

FTC15H5140

APPRIO, INC.

FTC14H4136

APPTIS INC.

FTC06G6106B

FTC08G8192

FTC08G8273

FTC08G8277

FTC08G8174

FTC08G8242

APRICORN

29FTC117P0087

APRISA TECHNOLOGY LLC

FTC14G4097

29FTC116F0026

ARCHIVE DATA SOLUTIONS, LLC

FTC10H0080

FTC10H0310

ARDELLE TECHNICAL, INC.

FTC09G9010

FTC10G0090

FTC08G8175

FTC10H0009

ARETE GOVERNMENT SOLUTIONS LLC

FTC11G1105

ARROW ENTERPRISE COMPUTING SOLUTIONS INC.

FTC12G2016

FTC12G2046

FTC12G2090

FTC12G2117

FTC13G3007

FTC13G3091

FTC13G3115

FTC15G5012

ARTELYS CORP.

29FTC116P0028

ARYA CORP.

FTC14G4031

ASAP SOFTWARE EXPRESS INC

FTC08G8087

FTC08G8088

FTC08G8107

FTC08G8284

FTC08H8004

FTC08H8250

ASPEN SYSTEMS CORP.

FTC07G7098

ASSOCIATION OF GOVERNMENT ACCOUNTANTS

29FTC116P0023

FTC09H9242

FTC10H0296

FTC11H1201

FTC12H2183

FTC15H5156

AT COMM CORP.

FTC08H8079

FTC10H0225

FTC11G1112

AT&T CORP.

FTC10H0285

AT&T MOBILITY LLC

FTC07G7316

FTC07G7317A

ATLANTIC AIR CORP.

FTC09G9200

ATLAS VAN LINES, INC.

FTC07G7100

ATTASK, INC.

FTC09H9039

FTC10H0035

FTC10H0216

FTC11H1052

FTC12H2057

AUDIMATION SERVICES INC

FTC08H8091

FTC15H5094

AUGUST TENTH SYSTEMS

FTC08G8017

AUROTECH INC

FTC08H8244

FTC07G7276

FTC08G8068

FTC08G8124

FTC08G8158

FTC11G1166

FTC07G7276A

FTC07G7276B

FTC08H8232

FTC09H9252

FTC09H9271

FTC10G0255

FTC10G0268

AVANTSTAR INC

FTC12H2248

AVITECTURE INC

FTC10H0143

BAHFED CORP

BAHFED CORP

BAHFED CORP

FTC09H9040

BAJARI ECONOMIC CONSULTING

FTC09H9040

BANCORP BANK THE

FTC07G7022

FTC07H7009

FTC09G9008

BARDEH IT CONSULTING

FTC10H0053

BARKER ADVERTISING SPECIALTY CO., INC.

FTC08G8223

BASCH SUBSCRIPTIONS

29FTC117F0022

BELLINGER, DAVID

FTC10H0287

BENJAMIN OFFICE SUPPLY & SERVICES, INC.

FTC15G5076

BEST MESSENGER INC

FTC07A7001

FTC08A8002

BETTER DIRECT, LLC

FTC16G6011

BIG BANG LLC

FTC11H1145

FTC12H2226

BIJAN SHAL, INC.

FTC09H9106

BINARY RESEARCH INTERNATIONAL, INC.

FTC09H9210

FTC10H0305

BLACK BOX CORP OF PENNSYLVANIA

FTC08H8229

FTC10H0007A

BLDS, LLC

FTC07H7127A

BLUE TECH INC.

29FTC117F0090

29FTC117F0142

FTC15H5098

FTC11G1094

FTC12G2049

FTC13G3040

BNF TECHNOLOGIES INC.

FTC06H6176

FTC07H7033

FTC07H7033A

BOOZ ALLEN HAMILTON INC

FTC12G2125

BOSQUES DE DURAZNOS NO 67-203

FTC12H2192

BOXTONE INC.

FTC09H9045

FTC10H0065

FTC10H0322

FTC11H1082

FTC11H1166

FTC12H2098

BRATTLE GROUP, INC., THE

FTC11H1074

FTC11H1140

FTC12H2182

BRENNAN, JENNIFER M

FTC10H0304

BRIGHTLINE COMPLIANCE, LLC

FTC07H7052

BROOKS AND ASSOCIATES LLC

FTC10G0028

BUCK MANAGEMENT SERVICES

FTC09H9057

FTC09H9079

FTC09H9177

C&C COMPLETE FLOORING ENTERPRISES, INC

FTC12H2119

C.T. CORP. SYSTEM

FTC08H8182

CACI INC FEDERAL

29FTC117F0027

FTC07G7048

FTC08G8003

FTC12G2021

FTC16G6009

CADAPULT LTD

FTC07H7136

FTC09H9037

CAIRO CORP.

FTC07G7331

CAMBRIDGE COMPUTER SERVICES INC.

FTC11H1205

FTC12H2149

FTC11H1211

CANON U.S.A., INC.

FTC08G8029A

FTC10G0227

FTC07G7028

FTC07G7042

FTC07G7059

FTC08G8029

CAPITAL ANTENNA COMPANY INC.

FTC07H7104

CAPITOL NEWS COMPANY, LLC

FTC14H4161

CAPP INC

FTC08G8196

CARAHSOFT TECHNOLOGY CORP.

29FTC117F0082

29FTC117F0103

FTC15G5010

29FTC116C0023

29FTC116F0013

29FTC116F0023

29FTC116F0049

29FTC116F0073

29FTC117F0078

FTC07G7285

FTC09G9022

FTC09G9147

FTC09G9197

FTC10G0085

FTC10G0086

FTC10G0100

FTC10G0103

FTC10G0147

FTC10G0198

FTC10G0203

FTC10G0241

FTC10G0242

FTC10G0248

FTC11G1056

FTC11G1057

FTC11G1070

FTC11G1071

FTC11G1107

FTC11G1108

FTC12G2041

FTC12G2045

FTC12G2059

FTC12G2087

FTC12G2105

FTC12G2109

FTC12G2110

FTC12G2111

FTC12G2141

FTC12H2161

FTC13G3027

FTC13G3034

FTC13G3042

FTC13G3045

FTC13G3075

FTC13G3119

FTC14G4150A

FTC15G5031

FTC15G5074

CAREER CONCEPTS INC.

FTC08A8007

FTC12G2143

FTC08A8007/1001

FTC08A8007/1200

FTC08A8007/8001

FTC08A8007/8002

FTC08A8007/9001

FTC10H0070

CAROLINA ADVANCED DIGITAL, INC.

29FTC116F0056

CARTRIDGE PLUS, INC

FTC09G9049

FTC09G9063

FTC09G9205

FTC10G0097

FTC10G0175

CARTRIDGE TECHNOLOGIES, INC.

29FTC116F0088

CASESOFT LIMITED

FTC08G8104

FTC08G8224

FTC08G8256

CATAPULT CONSULTANTS LLC

FTC09H9267

FTC11A1004/1105

FTC11A1004/1205

FTC11A1004/1207

FTC11A1004/1208

FTC11G1185

CAVANAUGH HAGAN PIERSON AND MINTZ INC.

FTC07H7183

CAVANAUGH, HAGAN & PIERSON, INC.

FTC08A8006

CCH INC.

29FTC117D0002

FTC09G9009

FTC10G0005

FTC12G2009

FTC13G3012

FTC15G5062

FTC16G6019

CD ROM INC

FTC09G9198

CDW GOVERNMENT INC

FTC08H8076

FTC08H8086

FTC08H8110

FTC08H8113

FTC08H8133

FTC08H8136

FTC08H8184

FTC08H8206

FTC08H8207

FTC08H8208

FTC08H8219

FTC08H8221

FTC08H8236

FTC08H8255

FTC08H8266

FTC09H9017

FTC09H9033

FTC09H9041

FTC09H9051

FTC09H9054

FTC09H9088

FTC07G7290

FTC07H7190

FTC08G8002

FTC08G8081

FTC08G8110

FTC08G8116

FTC08G8119

FTC08G8120

FTC08G8181

FTC08G8184

FTC08G8204

FTC08G8259

FTC08G8270

FTC08G8276

FTC08G8278

FTC08G8305

FTC08G8306

FTC08G8307

FTC08G8308

FTC09G9051

FTC09G9082

FTC09G9100

FTC09G9134

FTC09G9158

FTC09G9163

FTC09G9179

FTC09G9186

FTC10G0002

FTC10G0055

FTC10G0062

FTC10G0077

FTC10G0125

FTC10G0133

29FTC116F0016

29FTC116F0059

29FTC116F0093

29FTC117F0070

29FTC117F0079

29FTC117F0083

29FTC117F0116

29FTC117F0124

29FTC118F0008

29FTC118F0052

FTC08G8084

FTC08G8210

FTC08H8007

FTC08H8023

FTC08H8093

FTC10G0053

FTC10G0077A

FTC10H0170

FTC10H0211

FTC10H0266

FTC10H0279

FTC10H0286

FTC10H0314

FTC10H0320

FTC10H0324

FTC10H0325

FTC11G1028

FTC11G1043

FTC11G1054

FTC11G1064

FTC11G1072

FTC11G1111

FTC11G1147

FTC11G1152

FTC11G1156

FTC11G1167

FTC11G1172

FTC11H1003

FTC11H1030

FTC11H1040

FTC11H1048

FTC11H1116

FTC11H1122

FTC11H1138

FTC11H1181

FTC11H1195

FTC11H1206

FTC12G2033

FTC12G2034

FTC12G2038

FTC12G2058

FTC12G2088

FTC12G2116

FTC12H2002

FTC12H2009

FTC12H2029

FTC12H2038

FTC12H2099

FTC12H2166

FTC12H2187

FTC12H2227

FTC12H2247

FTC12H2255

FTC12H2259

FTC13G3070

FTC13G3072

FTC13G3121

FTC13G3126

FTC13G3128

FTC13G3139

FTC13H3012

FTC13H3030

FTC13H3041

FTC13H3075

FTC13H3078

FTC14H4092

FTC15G5091

FTC15G5104

FTC15G5138

FTC07G7273

FTC07G7307

FTC08G8027

FTC09G9091

FTC09G9182

FTC09H9189

FTC10G0064

FTC10G0119

FTC10G0140

FTC10G0251

FTC10H0041

FTC10H0072

FTC10H0096

FTC10H0129

FTC10H0130

FTC10H0131

FTC10H0135

FTC11G1125

FTC12G2097

FTC16G6003

CELLEBRITE USA CORP

FTC12H2235

CENTER FOR APPLIED LINGUISTICS

FTC11H1131

FTC12G2153

CENTER FOR IMPROVING VALUE IN HEALTH CARE

29FTC117P0085

CENTER FOR SECURITY AND EMERGENCY MANAGEMENT, INC.

FTC10H0283

CENTER WEST A CAL LTD PARTNERSHIP

FTC10H0064

FTC11H1008

CERAMI & ASSOCIATES, INC

29FTC117P0019

CGI FEDERAL INC.

FTC14G4205

CHALLENGEPOST, INC.

FTC12G2120

CHAMPION INDUSTRIES, INC

FTC10G0145

CHICAGO PARTNERS

FTC07H7093A

CHRISTOPHER HEMPHILL

FTC07H7145A

CINGULAR WIRELESS LLC (5068)

FTC07G7113

CIPHENT, INC.

FTC12G2094

CIRCLE SYSTEMS INC

FTC09H9002

FTC10H0004

FTC11H1009

FTC12H2003

CISION US INC.

FTC09H9269

CITRIX SYSTEMS INC

FTC08G8139

FTC12H2158

FTC13H3005

CLASSIC LEATHER INC

FTC08G8064

CLASSIFIED DOMESTIC CONTRACTORS

FTC06H6111

FTC07H7028

FTC07H7062

FTC07H7161

COAST2COAST SHREDDING LLC

FTC06G6207A

COMBYTE U S A

FTC12G2084

COMMERCIAL DATA SYSTEMS INC

FTC09G9252

FTC10G0001

FTC11G1031

FTC12G2017

FTC11H1005

FTC11H1120

FTC12H2001

COMMUNICATIONS PROFESSIONAL, IN

29FTC116F0038

29FTC117F0150

FTC15G5120A

COMPASS LEXECON LLC

FTC10H0337

COMPETITIVE MEDIA REPORTING LLC

FTC07H7170

COMPU DYNAMICS LLC

FTC06G6274

FTC11G1087A

FTC10G0024

FTC10G0041

FTC10G0122

FTC10G0135

FTC10G0186

FTC10G0208

FTC11G1102

FTC12G2020

FTC12G2057

FTC12G2112

FTC12G2145

FTC13G3033

COMPUTECH INTERNATIONAL, INC.

29FTC117C0130

COMPUTER PRODUCTS CORP.

FTC09H9016

COMPUTERLINKS NORTH AMERICA INC.

FTC11G1038

FTC11G1078

FTC12G2067

COMPUWARE CORP.

FTC08G8060

COMSCORE, INC.

FTC08H8151

FTC10H0116

FTC11H1228

COMSTOR CORP.

FTC08G8117

FTC09G9132

CONGRESSIONAL QUARTERLY INC

FTC09H9008

FTC08H8005

CONNECTLIVE COMMUNICATIONS, INC

FTC06G6219

CONTIVO INC.

FTC08H8045

CONVERGENCE TECHNOLOGY CONSULTING LLC

29FTC117F0072

FTC10H0051

FTC11H1067

FTC12H2086

FTC12H2240

29FTC116F0072

COOPER NOTIFICATION, INC.

FTC09G9262

CORNERSTONE RESEARCH, INC.

FTC16H6007

COUNCIL FOR COMMUNITY AND ECONOMIC RESEARCH, THE

FTC10H0263

COUNCIL OF BETTER BUSINESS BUREAUS, INC.

FTC11H1041

FTC13H3200

COUNTERTRADE PRODUCTS INC.

FTC11G1024

FTC11G1036

FTC12G2026

FTC12G2082

CQ-ROLL CALL, INC.

FTC11H1015

FTC12H2033

FTC13H3020

CRA INTERNATIONAL INC.

FTC07H7119

FTC08H8158

FTC08H8238

FTC11H1134

FTC13H3045

CREATE WITH CONTEXT, INC.

29FTC117P0059

CREATIVE BREAKTHROUGHS, INC.

FTC11H1032

CRIMSON IMAGING SUPPLIES, LLC.

29FTC116F0028

29FTC1170021

29FTC117F0120

29FTC118F0022

FTC13A3001/1301

CRITICAL ELECTRIC SYSTEMS GROUP, LLC

FTC12H2124

CROSS MATCH TECHNOLOGIES INC.

FTC11G1092

CROWN PARTNERS LLC

FTC10G0171

FTC11G1144

FTC12G2136

CTR MANAGEMENT GROUP LLC

FTC14Z40020009

CUADRA ASSOCIATES, INC.

FTC08G8162

FTC10G0197

FTC11H1167

FTC12H2220

CXO MEDIA, INC.

FTC08H8216

DATA DEVICES INTERNATIONAL, INC.

FTC09H9226

DATACOM NETWORK SERVICES INC

FTC07H7157

FTC08H8196

FTC08H8197

FTC09H9221

FTC08H8021

DATALINE LLC

FTC11G1048

DATAMATION SYSTEMS INC

FTC10H0042

DATASTREAM CONVERSION SERVICES LLC

FTC07G7283

DATAWATCH SYSTEMS, INC.

FTC12H2031

FTC13H3060

DATUM FILING SYSTEMS INC

FTC10G0154

DCML SERVICES CORP.

FTC13H3214

DE ARMOND, ELIZABETH

FTC08H8145

DEAL, L.L.C., THE

FTC10H0176

FTC11H1115

FTC12H2154

FTC15H5110

DEBRA J. RINGOLD, Ph.D., INC.

FTC12H2007

DECISION ANALYST, INC.

FTC10H0261

DELL FEDERAL SYSTEMS L.P.

29FTC117F0157

FTC13G3008

FTC10G0079

FTC11G1151

FTC11G1161

FTC11G1162

FTC11G1174

DELL MARKETING L.P.

29FTC116F0032

FTC07G7272

FTC08H8105

FTC09H9179

FTC09H9223

FTC10H0183

FTC10H0195

FTC08G8098

FTC08G8221

FTC08G8245

FTC08G8275

FTC08G8281

FTC09G9047

FTC09G9064

FTC09G9080

FTC09G9105

FTC09G9181

FTC09G9188

FTC09G9190

FTC09G9191

FTC09G9206

FTC09G9230

FTC09G9236

FTC10G0049

FTC10G0089

FTC10G0189

FTC10G0221

FTC10G0252

FTC10G0253

FTC11G1090

FTC12G2032

FTC12G2054

FTC12G2055

FTC12G2064

FTC12G2077

FTC12G2092

FTC12G2099

FTC12G2131

FTC12G2132

FTC12G2134

FTC12G2140

FTC13G3044

FTC13G3059

FTC16G6014

FTC11G1052A

FTC11G1130A

DEMBO JONES, P.C.

293G0073

DEMBO, JONES, HEALY, PENNINGTON

FTC08G8118

DESIGN SCIENCE INC.

FTC06H6164

FTC11H1109

DIAMOND HOTEL PHILIPPINES

FTC12H2179

DIAMOND, SEIDMAN SHARI

FTC16H6027

FTC16H6027

DIGITAL INTELLIGENCE, INC.

FTC09H9224

FTC11G1134

DLT FEDERAL BUSINESS SYSTEMS CORP.

FTC16G6026

DLT SOLUTIONS, INC.

FTC08G8108

FTC08G8133

FTC08G8163

FTC09G9113

FTC09H9004

FTC09H9111

FTC09H9119

FTC10H0010

DLT SOLUTIONS, LLC

29FTC116F0036

29FTC117F0085

FTC10G0054

FTC10G0139

FTC10G0142

FTC10G0190

FTC10G0230

FTC10G0235

FTC10G0239

FTC10G0254

FTC10H0095

FTC10H0151

FTC10H0168

FTC11G1019

FTC11G1035A

FTC11G1063

FTC11G1097

FTC11H1084

FTC11H1114

FTC11H1168

FTC12G2025

FTC12G2069

FTC12G2104

FTC12G2108

FTC12G2126

FTC12G2135

FTC12H2046

FTC12H2056

FTC12H2077

FTC12H2101

FTC12H2109

FTC12H2194

FTC12H2224

FTC13G3004

FTC13G3026

FTC13G3046

FTC13G3095

FTC13G3107

FTC15G5015

FTC15G5082

FTC15G5098

FTC15G5121

DOMA TECHNOLOGIES, LLC

FTC09H9258

FTC11H1112

DOMAIN TOOLS, LLC

FTC15H5025

DOMESTIC AWARDEES (UNDISCLOSED)

FTC07H7092

FTC12H2097

FTC12H2175

FTC12H2207

FTC12H2213

FTC12H2245

FTC12H2250

FTC12H2260

FTC13H3025

FTC13H3051

FTC13H3058

FTC13H3111

FTC13H3128

FTC13H3131

FTC13H3211

FTC14H4036

FTC14H4061

FTC14H4110

FTC14H4115

FTC14H4131

FTC15H5008

FTC15H5018

FTC15H5126

FTC15H5134

FTC08H8065

FTC08H8153

FTC08H8161

FTC08H8252

FTC08H8274

FTC09H9050

FTC09H9110

FTC09H9118

FTC09H9122

FTC10H0029

FTC10H0047

FTC10H0086

FTC10H0094

FTC10H0104

FTC10H0114

FTC10H0159

FTC10H0186

FTC10H0192

FTC10H0212

FTC10H0238

FTC10H0241

FTC10H0252

FTC11H1036

FTC11H1080

FTC11H1097

FTC11H1113

FTC11H1155

FTC11H1172

FTC11H1203

FTC11H1219

FTC12H2028

FTC12H2037

DORMA-CAROLINA DOOR CONTROLS, INC

FTC07H7020A

FTC08H8032

DR JAMES MCCORMACK

FTC08H8055

DSI INDUSTRIES INC

FTC09G9166

DUN & BRADSTREET, INC.

FTC08G8020

FTC09G9004

FTC10G0010A

FTC11G1017

FTC12G2008

FTC13G3020

DYNAMIC SYSTEMS, INC.

FTC16H6014

EAGLE MARKETING GROUP INC

FTC07G7192

FTC09G9199

EAST COAST FIRE PROTECTION, INC.

FTC10G0164

EASTERN TECHNICAL, INC

FTC10H0300

FTC08H8185

FTC12H2196

EBSCO INDUSTRIES, INC

FTC08G8019

FTC08G8134

FTC09G9003

FTC09G9069

FTC10G0011

FTC10G0084

FTC11G1009

FTC11G1042

FTC08G8019A

FTC12G2007

FTC13G3043

FTC15H5102

EC AMERICA, INC.

29FTC117F0106

FTC13G3003

FTC16G6021

FTC16G6030

EC AMERICA/SAP

FTC10H0222

EC AMERICAS/BSNESS OBJCTS AMERICAS

FTC08G8121

FTC09G9026

FTC09G9031

FTC09G9131

FTC09G9196

FTC09G9224

FTC09G9225

FTC10G0038

FTC10G0047

FTC10G0071

FTC10G0120

FTC10G0165

FTC10G0192

FTC10G0226

FTC11G1083

FTC12G0001

FTC12G2003

ECONOMIC SYSTEMS, INC.

FTC08G8018

FTC08G8255

FTC10G0019

FTC11G1010

FTC11G1022

EDC CONSULTING LLC

FTC07G7200

EDITORIAL EXPERTS, INC

FTC07G7255

FTC08G8153

EDWARD BLONZ

FTC07H7084A

EECO INC.

FTC07H7021

ELECTRICAL WHOLESALERS METRO DC, INC.

FTC10H0196

FTC10H0328

ELECTRONIC LEGAL SOFTWARE

FTC11H1035

ELITE PRODUCTIONS SERVICES LLC

FTC15H5039

ELSEVIER B.V.

FTC10H0085

FTC11H1077

FTC12H2152

EMC CORP.

FTC08H8095

FTC09H9206

FTC10H0262

FTC12H2139

EMERGENT, LLC

29FTC116F0058

29FTC117F0031

FTC10H0321

FTC11G1062

FTC15G5140

FTC16G6020

EMERSON NETWORK POWER, LIEBERT SERVICES, INC.

FTC09H9035

FTC10H0158

FTC11H1185

FTC12H2208

EMESEC INC.

FTC07G7294

ENDRUN TECHNOLOGIES, LLC

FTC11H1105

ENGEL, KATHLEEN

FTC08H8127

ENTERPRISE TECHNOLOGY SOLUTIONS, INC.

29FTC117F0013

29FTC117F0023

29FTC117F0034

ENVIRONMENTAL SYSTEMS RESEARCH

FTC08G8302

FTC08G8304

FTC09G9045

FTC10G0021

FTC10G0123

FTC11G1120

FTC11G1165

FTC12G2010

FTC09H9171

FTC11H1056

29FTC116F0055

EQUIFAX INFORMATION SERVICES LLC

FTC06G6102

ESECURITYTOGO, LLC

FTC11G1123

ESVA

FTC10H0050

EUREKAFACTS LLC

FTC16G6034

EVALUATE LTD

FTC12H2172

EVALUATEPHARMA LTD

FTC10H0161

FTC11H1127

EVIGILANTCOM INC.

FTC14G4014

FTC14G4156A

EXECUTIVE FURNITURE OF WASHING

FTC08G8189

FTC08G8198

FTC09G9079

FTC09G9178

FTC11G1020

FTC11G1117

FTC12A2007/1301

FTC12A2007/1401

EXECUTIVE INFORMATION SYSTEMS,

29FTC117F0084

FTC08G8145

FTC08G8318

FTC09G9133

FTC10G0149

FTC11G1082

FTC13G3078

29FTC116F0018

FTC12G2089A

EXPERIAN INFORMATION SOLUTIONS, INC

FTC09H9261A

EXTRACTIVA INC

FTC08H8003A

FABRICARE DRAPERIES, INC

FTC07G7279

FTC10G0112

FTC10G0115

FAST SEARCH & TRANSFER INC

FTC08H8119

FAST, MICROSOFT

FTC09H9015

FCN, INC.

FTC08G8167

29FTC116F0011

29FTC116F0030

FEDERAL ACQUISITION STRATEGIES, LLC

FTC13H3087

FEDERAL EXPRESS CORP.

FTC07A7005

FTC08A8004A

FEDERAL SECURITY SYSTEMS, INC

29FTC117C0077

FTC07G7271

FTC12G2086

FEDSTORE CORP.

FTC09G9018

FINANCIAL MARKETS INTL

V070501005

V070501006

FIRE X SALES & SERVICE CORP

FTC12H2200

FLATIRONS SOLUTIONS CORP.

FTC07G7319

FLEISHMAN-HILLARD INC.

FTC08H8248

FTC14Z4004/0102

FTC15H5068

FTC14Z40046001

FTC14Z40047002

FTC14Z40047003

FTC14Z40047012

FTC14Z40047016

FTC05G5145

FTC08G8149

FTC10G0265

FLUKE NETWORKS, INC.

FTC11H1200

FTC13H3017

FM TALENT SOURCE LLC

FTC09G9061

FTC10H0228

FOND ROZVYTKU KONKURENTSII, GO

29FTC117P0089

FOR THE RECORD, INC.

Contract + Task Order # after “/”

292Z0001701

292Z0001702

292Z0001704

292Z0001705

292Z0001706

292Z0001707

292Z0001711

292Z0001712

FTC08Z8001/0907

FTC08Z8001/0908

FTC08Z8001/0804

FTC08Z8001/0805

FTC08Z8001/0807

FTC09H9170

FTC09Z9001/0901

FTC09Z9001/0903

FTC09Z9001/0905

FTC09Z9001/1001

FTC09Z9001/1004

FTC09Z9001/1005

FTC09Z9001/1006

FTC09Z9001/1007

FTC09Z9001/1008

FTC09Z9001/1100

FTC09Z9001/1102

FTC09Z9001/1104

FTC09Z9001/1105

FTC09Z9001/1106

FTC09Z9001/1107

FTC09Z9001/1108

FTC09Z9001/1109

FTC09Z9001/1201

FTC09Z9001/1202

FTC09Z9001/1203

FTC09Z9001/1204

FTC09Z9001/1205

FTC09Z9001/1206

FTC09Z9001/1208

FTC09Z9001/1209

FTC09Z9001/1301

FTC09Z9001/1302

FTC09Z9001/1303

FTC09Z9001/1304

FTC09Z9001/1305

FTC09Z9001/1306

FTC09Z9001/1307

FTC09Z9001/1308

FTC09Z9001/1401

FTC09Z9001/1402

FTC09Z9001/1403

FTC09Z9001/1404

FTC09Z9001/1405

FTC09Z9001/1406

FTC09Z9001/1407

FTC09Z9001/1408

FTC09Z9001/1409

FTC09Z9001/1501

FTC09Z9001/1502

FTC09Z9001/1503

FTC09Z9001/1504

FTC09Z9001/1505

FTC09Z9001/1506

FTC09Z9001/1509

29FTC117F0056

FTC09H9129

FTC09H9172

FTC10H0198

FTC10H0334

FORCE 3 INC.

FTC10G0158

FTC11G1139

FTC09H9104

FTC10H0318

FTC11H1046

FTC12H2042

FTC12H2055

FTC13H3043

FORCE 3, LLC

29FTC116F0092

FTC11H1176A

FOREIGN AWARDEES (UNDISCLOSED)

29FTC118P0064

FTC15H5106

FORENSIC STORE, INC

FTC16H6012

FORRESTER RESEARCH, INC.

FTC09H9169

FOSTERSOFT, INC

FTC11G1182

FTC11G1183

FTC10H0093

FTC10H0330

FTC10H0333

FTC12H2075

FOUR LLC

29FTC116F0039

29FTC117F0131

FTC12H2188

FOUR POINTS TECHNOLOGY, L.L.C.

29FTC116F0068

29FTC117F0158

FTC11G1103

FTC11G1106

FTC12G2152

FRANK PARSONS, INC.

FTC07G7065

FTC08G8130

FTC09G9024

FTC09G9070

FTC09G9119

FTC09G9123

FTC09G9171

FTC10G0030

FTC10G0050

FTC10G0059

FTC10G0150

FTC10G0179

FTC11G1060

FRONTRANGE SOLUTIONS USA INC

FTC08G8023

FTC08H8220

FTI CONSULTING INC

FTC08H8022B

FTC08H8022C

FTC08H8022D

G.C.MICRO CORP.

29FTC117F0097

FTC16G6007

GALLUP, INC.

29FTC116F0067

GARTNER INC.

FTC08G8014

FTC08G8253

FTC10G0004

FTC10G0069

FTC11G1008

FTC12G0002

FTC13G3002

FTC16G6008

GENERAL BINDING CORP.

FTC08G8237

FTC09G9229

GENSLER JR M ARTHUR AND ASSOCIATES INC. (3305)

FTC06G6125

GEORGE W ALLEN CO INC

FTC09G9088

FTC10G0046

GEORGE WASHINGTON UNIVERSITY, THE

FTC09H9144

GEORGIA HOSPITAL ASSOCIATION, INC.

FTC11H1085

FTC13H3083

GILL GROUP INC.

FTC10G0143

GLOBAL PAYMENTS EXPERTS LLC

FTC14H4010

GLOBAL SOFTWARE TECHNOLOGIES

FTC07H7040A

GLOBAL TECHNOLOGY RESOURCES, INC.

29FTC117F0109

GLOBALSCAPE, INC.

FTC11H1072

GMC TEK, LLC

29FTC116F0005

GORDON SECURITY SOLUTIONS LLC

FTC11H1047

GOVCONNECTION INC.

FTC08G8126

FTC09G9093

FTC10G0271

FTC11G1177

FTC12G2076

FTC12G2160

FTC13G3069

29FTC116F0001

FTC09G9084A

GOVERNMENT TECHNOLOGY SOLUTION

FTC10G0132

FTC11G1075

FTC12G2075

FTC13G3064

FTC08G8135A

FTC09G9107A

GOVPLACE

29FTC116F0077

GOVSMART, INC.

29FTC116P0019

29FTC117F0113

29FTC117F0148

29FTC117F0161

GRADUATE SCHOOL

FTC10H0293

FTC12G2146

FTC13G3074

FTC15G5111

FTC08G8218

FTC09G9172

GREENWAY&GREENWAY

FTC09H9227

GRILLI, PETER J PA

GTSI CORP.

FTC09H9100

FTC10H0118

FTC11H1224

FTC07G7224

FTC08G8309

FTC09G9250

GUARDIUM, INC.

FTC09H9001

FTC10H0002

H M S ENTERPRISES INC.

FTC07H7160

H. CO. COMPUTER PRODUCTS, INC.

29FTC118F0036

FTC16G6031

HARTEK INC

FTC09H9128

FTC06H6099

FTC06H6103

HAWORTH, INC

FTC07G7169

FTC08G8236

FTC09G9140

FTC09G9248

FTC10G0094

HEALTHY BUILDINGS INTERNATIONAL (VA), INC.

FTC10G0148

FTC11G1163

FTC12G2130

HERMAN MILLER, INC

FTC08G8076

FTC08G8201

FTC09G9110

FTC10G0088

HEWLETT PACKARD COMPANY

FTC07G7223

FTC08G8099

FTC08G8123

FTC08G8240

FTC08G8280

FTC08G8287

FTC08G8320

FTC09G9025

FTC09G9145

FTC10G0107

FTC12G2115

FTC12G2138

FTC12G2139

FTC10G0020

FTC10G0185

FTC10G0211

FTC10H0188

FTC12G2072

FTC13G3024

HEWLETT PACKARD ENTERPRISE COMPANY

29FTC117F0032

29FTC117F0112

29FTC117F0173

FTC16G6022

HIGHPOINT DIGITAL, INC.

29FTC117F0136

HMS TECHNOLOGIES, INC.

FTC16G6010

HOMELAND OFFICE PRODUCTS AND EQUIPMENT INC.

FTC07G7261

FTC07G7262

HON COMPANY LLC, THE

FTC15G5047A

HOTEL BOROBUDUR JAKARTA

FTC13H3068

HOTEL RESTAURANT MARIA MONTEZ

FTC12H2264

HUMANSCALE CORP

FTC09G9193

FTC10G0095

FTC07G7244

I2 INC.

FTC09G9177

FTC10G0072

FTC10G0136

FTC10G0193

FTC11G1065

FTC12G2044

I3 FEDERAL LLC

FTC11G1176

ICF INC., L.L.C.

FTC10H0152

FTC13G3150

FTC14G4184A

ICF MACRO, INC

29FTC116P0029

FTC15H5069

ICS NETT, INC.

FTC12H2125

FTC12H2137

FTC13H3003

FTC13H3076

IDEAL SYSTEM SOLUTIONS, INC.

29FTC117P0010

FTC09H9180

IFE GROUP

FTC09G9201

IHS GLOBAL INC.

FTC12H2155

FTC13H3054

IKONAS AUDIOVISUAL GROUP

FTC12H2171

IMAGES EXPRESS AUDIO VISUAL

FTC07H7142

IMMIXTECHNOLOGY INC

29FTC116F0009

FTC08G8026

FTC08G8063

FTC08G8248

FTC08G8264

FTC09G9021

FTC09G9027

FTC09G9037

FTC09G9044

FTC09G9054

FTC09G9148

FTC09G9210

FTC09G9222

FTC09G9249

FTC10G0027

FTC10G0048

FTC10G0073

FTC10G0141

FTC10G0229

FTC11G1013

FTC10G0273

FTC11G1124

29FTC116F0033

FTC11G1077

FTC11G1098

FTC11G1170

FTC12G2012

FTC12G2065

FTC12H2203

FTC13G3049

FTC13G3066

FTC13G3113

FTC16G6017

IMPACT TRAINING SYSTEMS INC

29FTC116F0091

29FTC117F0165

FTC07G7060

FTC07G7282

FTC08A8005

FTC08A8005/1001

FTC08A8005/1101

FTC08A8005/8002

FTC08A8005/8003

FTC08A8005/8004

FTC08A8005/9001

FTC08A8005/9002

FTC08A8005/9003

FTC08A8005/9004

FTC08G8057

FTC10G0266

FTC10H0243

FTC12H2151

FTC13A3008/0003

FTC13A3008/0003A

FTC13A30080004

FTC13A3008/0007

FTC13A3008/0009

IMPRES TECHNOLOGY SOLUTIONS, INC.

FTC12H2231

FTC12H2238

IMS GOVERNMENT SOLUTIONS, INC

29FTC117C0022

FTC08H8245

FTC11H1178

IN2ITIVE

FTC12H2258

INDATA CORP.

FTC09H9125

FTC10H0173

FTC11H1107

INDEPENDENT STATIONERS INC

FTC09G9020

FTC09G9203

FTC09G9204

FTC09G9218

FTC11G1041

FTC11G1116

FTC12G2127

INDIGOIT, LLC

FTC08H8279

INDUSTRIAL INFO RESOURCES, INC.

FTC08H8225

FTC11H1154

INFORMA BUSINESS INFORMATION, INC.

FTC16H6036

INFORMATION ANALYSIS INC.

FTC08H8070

INFOUSA INC.

FTC08G8203

FTC09G9195

FTC10G0176

FTC11G1121

FTC12G2085

INSCAPE CORP.

FTC10G0152

FTC10G0157

FTC08G8246

FTC08G8247

FTC09G9115

FTC09G9117

FTC09G9121

FTC09G9125

FTC09G9126

FTC09G9129

FTC09G9155

FTC10G0124

INSYS INC

FTC07G7314

FTC07G7315

INTEGRATION TECHNOLOGIES GROUP, INC.

29FTC116F0003

29FTC116F0014

29FTC116F0053

29FTC116F0076

29FTC116F0086

29FTC117F0036

29FTC117F0048

29FTC117F0051

29FTC117F0087

29FTC118F0079

29FTC118P0008

FTC15G5099

FTC15G5149

INTELLIGENT DECISIONS INC.

FTC08G8297

FTC13G3092

FTC16G6043

INTELLIGENT ENTERPRISE SOLUTIONS, LLC

FTC10G0166

FTC11G1058

FTC12H2150

INTERACTIVE COMMUNICATIONS SOLUTIONS GROUP, INC.

FTC07G7237

FTC09G9043

INTERFACE AMERICAS INC.

FTC08G8190

INTERIMAGE, INC.

FTC07G7001

FTC08G8296

FTC13G3001

FTC07G7001A

FTC07G7001B

FTC07G7001C

FTC10H0338

FTC13H3144

INTERNATIONAL BUSINESS MACHINES CORP.

FTC09G9211

FTC10H0277

FTC11H1051

INTERNATIONAL SYSTEMS MARKETING, INC.

FTC10H0251

IPSOS REID PUBLIC AFFAIRS INC.

FTC13G3112

IRIT AND STEVEN TADELIS

FTC15H5067

IRON BOW TECHNOLOGIES, LLC

29FTC117F0102

FTC09G9017

FTC10G0263A

FTC11G1027A

FTC11G1047

IRON MOUNTAIN GOVERNMENT SERVICES INC.

FTC07G7037

FTC07G7220

IRON MOUNTAIN INC.

FTC08H8270

FTC09H9115

IRON MOUNTAIN INFORMATION MANAGEMENT LLC

FTC15G5023

ISAAC FAIR CORP. (aka FAIR ISAAC)

FTC08H8144

IT FEDERAL SALES LLC

FTC16G6039

J B CUBED, INC.

FTC09G9260

JACQUES WARCOIN

FTC08H8052

JAMF SOFTWARE, LLC

FTC12H2045

JDG ASSOCIATES, INC.

FTC09H9066

JDG COMMUNICATIONS, INC.

FTC06G6259

JOFCO INC.

FTC09G9085A

FTC07G7250

FTC08G8164

FTC08G8239

FTC09G9216

FTC10G0105

FTC10G0174

JOHN DAY CONSULTING, INC.

FTC13H3142

JOHNSON CONTROLS, INC.

FTC06G6289A

FTC06G6282

FTC07G7124

FTC07G7216

JON KROSNICK CONSULTING

29FTC116P0039

JONES LANG LASALLE INC.

FTC11H1096

JTF BUSINESS SYSTEMS INC.

FTC14G4025

FTC14G4026

FTC14G4037

FTC14G4041

JUDITH KORNER

FTC12H2051A

JUSEM, PEARL

FTC08G8202

KATHERINE PORTER

FTC09H9048A

KATZEN, SALLY

FTC11H1078

KESSELRUN CORPORATE TRAVEL SOLUTIONS, LLC

FTC14G4141

KHAN, IKHLAS

FTC16H6018

KIMBALL INTERNATIONAL, INC.

FTC07G7219

FTC07G7281

FTC08G8211

FTC10G0177

FTC07G7251

KLEIMANN COMMUNICATION GROUP INC.

FTC07H7179

FTC09H9038

FTC10H0227

KNOLL INC.

FTC07G7147

FTC07G7178

FTC07G7183

FTC07G7202

FTC08G8071

FTC08G8114

FTC08G8138

FTC08G8147

FTC08G8148

FTC08G8150

FTC08G8154

FTC10G0093

FTC10G0213

FTC11G1034

KONICA MINOLTA BUSINESS SOLUTIONS USA INC.

FTC12G2123

FTC09H9018

KONTURA SLOVAKIA

FTC12H2170

KROLL CYBER SECURITY, INC.

FTC15H5003

KRUG INC.

FTC10G0108

FTC10G0109

FTC10G0156

FTC10G0195

FTC07G7168

FTC07G7179

FTC07G7227

FTC07G7229

FTC07G7230

FTC07G7231

FTC07G7232

FTC07G7246

FTC07G7247

FTC07G7275

FTC09G9114

FTC09G9116

FTC09G9120

FTC10G0151

KYOCERA MITA AMERICA INC.

FTC07G7056

FTC08G8040

L 3 COMMUNICATIONS CORP. (4475)

FTC10G0128

FTC10G0204

FTC08H8062

FTC09H9123

FTC10H0107

LAMPS PLUS, INC.

29FTC117C0174

FTC16H6005

LANGUAGE DOCTORS INC., THE

FTC07G7193

LAW BUSINESS RESEARCH LTD

FTC15H5033

LAW OFFICE OF CHRISTINE M COOPER, THE

FTC10H0073

LEASE GROUP RESOURCES INC.

FTC06H6018

FTC07H7015

LEASING TECHNOLOGIES, INC.

FTC12G2060

LECG LLC

FTC07H7039

FTC07H7127

LEE AND ASSOCIATES LLC

FTC09G9030

LEGAL SCIENCE

FTC11H1222

LEIDOS ASPEN SYSTEMS CORP.

292G0021

FTC06G6166A

FTC06G6166B

FTC07G7098A

LEOPOLDO ARISMENDY RODRIGUEZ ARDON

FTC08H8187

LEVITIN, ADAM

FTC08H8162

LEXIS NEXIS SPECIAL SERVICES INC.

FTC11H1213

FTC12H2111

LIEBERT GLOBAL SERVICES INC.

FTC08H8041

LINDEN RESOURCES, INC.

FTC12H2156

LIOCE GROUP INC., THE

29FTC117F0092

FTC15G5071

LOCKHEED MARTIN FEDERAL HEALTHCARE INC.

FTC06G6166

LOGICUBE, INC.

FTC09H9182

FTC10H0303

LOGISTICS MANAGEMENT INSTITUTE

FTC12H2254

LOUDOUN EVENTS LLC

FTC16G6016

LRP PUBLICATIONS, INC.

FTC14G4124

29FTC117F0073

FTC08G8151

FTC09G9111

FTC10G0127

FTC11G1091

FTC12G2074

FTC13G3071

L-SOFT SWEDEN AB

FTC11H1028

LUTHRA & LUTHRA

FTC06H6020

LYME COMPUTER SYSTEMS, INC.

FTC13G3105

M A FEDERAL, INC.

FTC08H8094

M. C. DEAN, INC.

FTC07H7003A

FTC10H0001

FTC13H3004A

FTC09H9011

FTC11H1001

FTC12H2034

MACDONALD MEDIA, LLC

FTC09H9154

MACRO INTERNATIONAL, INC

FTC09H9055

FTC08G8283

FTC14G4131

MANAGEMENT CONCEPTS, INC.

V070617001

MANAGEMENT SUPPORT TECHNOLOGY

FTC07H7004

FTC11G1002

FTC16G6024

MARCO MEETINGS, INC

FTC11H1037

MARIA VILLAFLOR

E071256015

MARK BUDNITZ, ATTORNEY AT LAW

FTC08H8163

MARSHALL COMMUNICATIONS CORP.

29FTC117F0065

FTC16G6006

MARTIN FULLER APPRAISALS, LLC

FTC13H3048

MARZIK INC

FTC08G8159

FTC08G8282

FTC09G9034

FTC10G0056

FTC10G0068

FTC10G0209

FTC10G0217

FTC11G1109

FTC11G1110

FTC12G2023

FTC09H9234

FTC10H0301

FTC11H1070

FTC11H1087

FTC11H1093

FTC11H1192

FTC11H1209

MATTHEW BENDER & COMPANY INC

FTC09G9007

FTC10G0007

FTC08G8005A

FTC08G8005B

FTC15H5178

MATWORKS COMPANY, LLC, THE

FTC10H0128

MCGRAW-HILL COMPANIES INC, THE

FTC08H8170

MCKENNEY'S, INC.

FTC13H3082

MCP COMPUTER PRODUCTS INC

FTC13G3094

MEMORY EXPERTS INTERNATIONAL (USA) INC.

FTC09G9175

FTC09G9242

MERCHANTS AUTOMOTIVE GROUP INC.

FTC07H7011

FTC07H7014

MERGERMARKET (U.S.) LTD.

MERLIN INTERNATIONAL, INC.

FTC09H9086

FTC10H0125

MERLIN SOFTWARE CORP

FTC08G8007

FTC08G8080

METRO OFFICE SOLUTIONS INC.

FTC07G7143

FTC07G7190

FTC07G7222

FTC08G8072

FTC08G8073

FTC08G8074

FTC08G8136

FTC08G8137

FTC08G8187

FTC08G8214

FTC08G8215

FTC08G8216

FTC08G8252

FTC09G9075

FTC09G9141

FTC09G9142

FTC09G9167

FTC09G9168

FTC09G9240

FTC09G9247

FTC10G0036

FTC10G0110

FTC10G0114

FTC10G0153

FTC10G0159

FTC12A2005/1401

METRO OFFICE SYSTEMS INC

FTC09H9075

FTC12H2074

FTC07H7006

FTC07H7030

MICROPACT ENGINEERING INC.

FTC08G8075

FTC08G8234

FTC10G0026

FTC11G1018

FTC13G3023

FTC12G2001A

MICROSOFT CORP.

FTC08H8072

FTC09H9063

FTC11H1079

FTC12H2106

MICROTECHNOLOGIES LLC

FTC09H9268

MID-ATLANTIC AUTOMATIC DOOR LLC

FTC15H5135

MID-WEST MOVING & STORAGE, INC.

29FTC117C0100

MINTEL INTERNATIONAL GROUP LIMITED

FTC10H0265

MISSOURI SYSTEM UNIVERSITY OF

FTC07H7185

FTC10H0187

MK 55 WEST INVESTOR LLC

FTC12H2115

MOBILE VIDEO SERVICES LIMITED

FTC06G6342

FTC09G9046

MODERN IMAGING SOLUTIONS, INC.

FTC10H0244

MOI, INC.

FTC12A2004/1301

FTC12A2004/2000

MRF CONSULTING LLC

FTC06G6100

FTC07G7199

FTC09G9160

MS MIAMI INTERNATIONAL SOFTWARE

FTC08H8275

MSAB INC.

FTC12H2228

MYRIAD SOLUTIONS

FTC11G1129

FTC12G2137

FTC07G7233

MYTHICS, INC

FTC12G2013

FTC12G2015

FTC12G2031

FTC12G2035

NAMTEK CORP.

FTC11H1216

FTC12G2142

FTC14G4171

NATIONAL BUSINESS FURNITURE LLC.

FTC09H9027

FTC08H8198

NATIONAL CAPITOL CONTRACTING, LLC

FTC14G4209

NATIONAL CONSUMER LAW CENTER, INC

FTC08H8067

NATIONAL COUNCIL FOR PRESCRIPTION DRUG PROGRAMS, INC.

29FTC116C0134

NATIONAL ECONOMIC RESEARCH ASSOCIATES INC.

FTC07H7088

FTC07H7117

FTC13H3122

NATIONAL INSTITUTE FOR TRIAL ADVOCACY

FTC11H1164

FTC12H2122

FTC12H2160

FTC12H2215

FTC13H3064

FTC08H8192

FTC10H0103

FTC10H0258

FTC10H0332

NATIONAL INSTITUTE OF TRANSITION PLANNING INC

FTC08H8200

FTC09H9201

FTC10H0291

NATIONAL PRESS CLUB OF WASHINGTON, DC, INC, (THE)

FTC10H0120

NAVIGANT CONSULTING, INC.

FTC11H1033

FTC16H6043

NEO TECH SOLUTIONS INC.

FTC12G2037

FTC12G2048

NET REACTION, LLC

FTC14H4045

NETCENTRICS CORP

FTC09H9114

NETRATINGS INC.

FTC06H6163

NETRATINGS, LLC

FTC10H0113

NEVINS LTD, THE

FTC07G7254

NEW HOPE EDUCATIONAL INSTITUTE INC

FTC10H0214

NEW IMAGE MKTG INC

FTC09H9070

NEW TECH SOLUTIONS INC.

FTC16G6013

29FTC116F0007

29FTC116F0079

29FTC117F0050

29FTC117F0060

29FTC117F0096

29FTC117F0117

29FTC117F0140

29FTC117F0167

29FTC118F0078

FTC16G6015

NEW TECHNOLOGY PARTNERS INC

FTC10H0290

NGUYENIE ASSOCIATION

FTC08H8099

NIELSEN COMPANY (US), LLC, THE

FTC10H0177

NIELSEN COMPANY LLC, THE

FTC09H9244

NIELSEN MEDIA RESEARCH INC. (0569)

FTC06H6180

FTC08H8154

FTC08H8199

NIELSEN, A. C. COMPANY (INC)

FTC08H8181

NORRIS WARD MCKINNON

FTC10H0207

NORSTAN COMMUNICATIONS INC.

FTC08H8001

NORTH AMERICAN PRECIS SYNDICATE INC.

FTC08G8288

FTC07G7186

FTC09H9167

NPD GROUP INC

FTC08H8077

FTC08H8190

FTC08H8014

FTC09H9262

FTC10H0106

FTC12H2072

NPI, INC.

FTC08H8118

FTC09H9124

FTC09H9200

FTC14A40060002

FTC18S0208

NUMERICAL ALGORITHMS GROUP, INC.

FTC08H8084

OCE-USA INC

FTC07G7039

OCTO CONSULTING GROUP, INC.

FTC13Z3012/1001

OECD

FTC09H9031

OFFICE DESIGN GROUP, INC.

29FTC117C0108

OFFICE ENVIRONMENTS INTERNATIONAL

29FTC117F0154

OFFICEMAX INC.

FTC08G8125

FTC08G8241

FTC09G9015

FTC09G9062

FTC09G9074

OFFICEPRO, INC

FTC11G1046

OFS BRANDS HOLDINGS INC.

FTC07G7196

OHLHAUSEN RESEARCH INC

FTC10H0245

OIL PRICE INFORMATION SERVICE, LLC

29FTC116P0033

FTC11H1153

FTC12H2216

FTC12H2217

FTC13H3151

FTC13H3152

FTC15H5175

OMNI ELEVATOR, INC

FTC11G1099

ONE TO ONE ENGLISH ACADEMY

FTC12H2174

FTC13H3063

ONIX NETWORKING CORP.

29FTC116F0031

FTC08G8146

FTC08G8188

FTC09G9112

FTC09G9180

FTC10G0170

FTC10G0188

FTC10G0215

FTC11G1067

FTC11G1128

FTC12G2155

OPEN TEXT INC

FTC13H3155

FTC09H9183

FTC10H0253

FTC11H1175

FTC12H2178

OPERATIONAL RESEARCH CONSULTANTS

FTC06G6322

FTC11G1066

ORACLE AMERICA, INC.

FTC07G7058

FTC09G9052

FTC10G0061

FTC11G1039

FTC11G1061

FTC11H1029

FTC11H1098

ORACLE CORP.

FTC07G7185

ORACLE USA INC

FTC07G7058

P AND P GENERAL CONTRACTORS INC.

FTC10G0167

P B I, INC

29FTC116C0128

29FTC116C0138

29FTC117F0163

FTC10H0025

FTC10H0306

PAISLEY CONSULTING, INC.

FTC08H8089

PARAGON SYSTEMS LLC

FTC07H7188

FTC08G8015

FTC08H8038

FTC09G9002

PARKER TIDE CORP.

FTC08G8032

FTC08G8085

FTC10G0052

FTC10G0098

FTC10G0101

PARTNERSHIP FOR PUBLIC SERVICE, INC.

FTC10H0295

FTC11H1165

FTC12H2130

FTC12H2243

FTC14H4089

FTC15A5002/0003

FTC15A50020004

FTC15G5011

FTC15A50020005

FTC15A50020006

PASSWARE, INC.

FTC11H1223

PATERVA (PTY) LTD

FTC12H2257

PATRIOT TECHNOLOGIES INC

FTC12G2040

29FTC116F0046

29FTC116F0069

FTC07G7195

FTC07G7306

FTC08G8111

FTC08G8206

FTC09G9187

FTC10G0187

FTC11G1089

FTC11G1104

FTC12G2106

FTC13G3085

FTC10H0199

FTC11H1173

PAWPRINTZ SOLUTIONS INC.

FTC07H7163

PC MALL GOV INC

FTC09G9050

FTC09G9067

FTC10H0016

FTC12G2098

FTC12G2100

FTC12G2164

PC SPECIALISTS, INC.

FTC13H3002

FTC13H3013

PCMG, INC.

FTC08H8269

PEPCO

FTC08H8031B

PEPCO ENERGY SERVICES INC.

FTC14G4088A

PERIDOT SOLUTIONS, LLC

FTC10H0341

FTC12H2048

PIFINITY, INC.

FTC12H2209

FTC13H308

FTC15G5038A

PINTO-MARTIN, JENNIFER A

FTC13H3169

PITNEY BOWES INC

FTC08G8024

FTC10G0014

FTC10G0018

FTC11G1032

FTC12G2006

PKWARE, INC.

FTC08H8120

FTC08H8177

FTC09H9211

FTC10H0323

FTC11H1188

FTC12H2201

PLAN B GOVERNMENT SYSTEMS

FTC09H9105

POLINGER COMPANY

FTC08H8071

FTC08H8126

FTC09H9097

FTC11H1198

POLITICO, LLC

29FTC116C0142

PORTFOLIO MEDIA, INC.

FTC14H4123

POWER SWABS CORP.

FTC11H1006

PR NEWSWIRE ASSOCIATION LLC

29FTC116C0141

PRATKANIS, ANTHONY R

FTC13H3066

PREMIER, INC.

FTC09H9064A

PRESIDIO NETWORKED SOLUTIONS, INC.

FTC11G1171

FTC12H2225

FTC13G3057

PRICEWATERHOUSECOOPERS LLP

FTC07G7150

FTC07G7155

PRIMESCAPE SOLUTIONS INC.

FTC16G6037

PROMARK TECHNOLOGY INC

FTC10G0129

FTC10G0246

FTC11G1084

FTC11G1133

FTC11G1135

FTC11G1138

FTC11G1181

FTC12G2039

FTC12G2107

FTC13G3080

PROMOTOUCH INC

FTC10G0249

PTY SHUTTLE

FTC11H1044A

QUALITY ASSOCIATES INCORPORATE

FTC13G3120

RADIO COMPUTING SERVICES, INC.

FTC10H0342

RAND CONSTRUCTION CORP.

FTC07H7172

RANDOLPH TRITELL

E070501011

E070501012

RDS MANAGEMENT RESEARCH, INC.

FTC15H5125

FTC16H6064

READMORE INC

FTC08G8052

FTC10G0006

REALNETWORKS INC

FTC08G8022

RED RIVER COMPUTER COMPANY INC.

FTC11G1026

FTC12G2093

REED ELSEVIER INC.

FTC09G9023

FTC10G0016

FTC11G1015

FTC13G3048

FTC09H9071

FTC09H9156

FTC12G2148

FTC10H0090

FTC10H0157

FTC10H0273

FTC11H1091

FTC11H1119

FTC11H1199

FTC12H2032

FTC13H3014

FTC13H3053

REGAN TECHNOLOGIES CORP.

29FTC118F0045

RELOCATION MANAGEMENT WORLDWIDE, INC.

FTC06G6231

RENTACRATE LLC

FTC08H8112

RESEARCH IN MOTION CORP.

FTC07H7166

FTC13H3042

RICH, DEANA CONSULTING

FTC13H3103

RICHARDS-WILCOX, INC (DEL)

FTC07G7248

FTC08G8177

RICOH AMERICAS CORP.

FTC07G7055

RISK MANAGEMENT CONSULTING

FTC14H4075

RJG ASSOCIATES

FTC09H9137A

ROBB EVANS & ASSOCIATES LLC

FTC09H9127

ROCK CREEK PUBLISHING GROUP INC.

29FTC116F0094

29FTC117F0069

29FTC117F0081

29FTC117F0132

29FTC117F0134

ROCKHURST UNIVERSITY CONTINUING EDUCATION CENTER INC

FTC09H9073

FTC07G7274

FTC08G8092

FTC10G0075

ROLL CALL, INC.

FTC10H0005

RUSSELL L VALENTINE JR

FTC07G7335

SAFE PASSAGE INTERNATIONAL, INC.

FTC12H2121

SAP PUBLIC SERVICES, INC.

FTC11H1141

FTC12H2186

SAS INSTITUTE INC.

FTC09H9208

FTC12H2135

SCAN-OPTICS LLC

FTC10H0022

FTC13H3015

SCB SOLUTIONS, INC.

FTC11H1191

SCHOONER, HEIDI MANDANIS

FTC08H8132

SCIENCE APPLICATIONS INTERNATIONAL CORP.

5Z50060501

SECOND TO NONE, INC.

FTC07H7184

FTC09H9034

FTC10H0145

FTC12H2073

SECURE IDEAS, LLC

FTC12H2210

SEEDS OF GENIUS CORP.

FTC15G5130

SEISAN CONSULTING LLC

FTC08H8114

SENET INTERNATIONAL CORP

FTC07G7221

FTC07G7234

SERVICESOURCE INC

FTC09H9239

SHADOWTV INC.

FTC07H7091

SHARP ELECTRONICS CORP.

FTC10G0225

SHAVLIK TECHNOLOGIES LLC

FTC10H0181

FTC10H0210

FTC11H1060

FTC11H1126

FTC11H1144

SHAW INDUSTRIES INC.

FTC07G7280

FTC10G0191

SHELTERED OCCUPATIONAL CENTER OF NORTHERN VIRGINIA INC.

FTC07H7101

SHIMP, TERENCE A

FTC11H1170

SHPS HUMAN RESOURCE SOLUTIONS INC

FTC12H2123

SHUGOLL RESEARCH, INC.

FTC14G4178A

FTC10H0260

SI INTERNATIONAL INC.

FTC07G7288

SICO AMERICA INC.

FTC07H7140

SIEMENS BUILDING TECHNOLOGIES INC

FTC09H9003

FTC09H9102

FTC09H9198

FTC10H0014

FTC11H1038

FTC07H7017

FTC08H8020

SIEMENS COMMUNICATIONS INC

FTC08G8008

FTC08G8011A

SIEMENS ENTERPRISE NETWORKS LLC

FTC07G7013

FTC08G8010

FTC08G8012

FTC08G8021

FTC08G8001

SIEMENS INDUSTRY INC

FTC06G6004

FTC07G7011A

FTC07G7017A

FTC07G7018A

FTC07G7019A

FTC07G7020A

FTC10H0326

FTC15H5045

FTC12H2005

SIGNET PARTNERS, A CORP.

FTC09G9237

SILEO INC

FTC10H0154

SITEIMPROVE, INC.

29FTC118F0015

SKY TELEVISION INC

FTC09H9042

FTC10H0030

SMITHS DETECTION INC.

FTC10G0029

SMS DATA PRODUCTS GROUP INC.

FTC08G8050

FTC08H8033

SOCIAL & SCIENTIFIC SYSTEMS, INC.

FTC13H3167

SOFT TECH CONSULTING INC

FTC07H7148

SOFTCHOICE CORP.

FTC10G0060

FTC15H5187

SOFTMART GOVERNMENT SERVICES INC.

FTC08G8086

FTC09G9073

FTC10G0083

SOFTWARE & MORE

FTC08H8080

SOFTWARE FORENSICS, INC

FTC10H0308

FTC11H1183

SOFTWARE INFORMATION RESOURCE CORP.

FTC08H8253

FTC10H0049

FTC11H1076

FTC12H2044

FTC12H2104

FTC13H3007

FTC13H3031

FTC13H3040

FTC13H3057

FTC13H3074

FTC13G3037

SOLARWINDS, INC.

FTC11H1169

FTC13H3008

SOLTANI LLC

FTC12H2204

SONIC SOLUTIONS

FTC08H8006

FTC09H9012

FTC10H0012

SPACESAVER STORAGE SYSTEMS INC

FTC05G5219

SPAETH COMMUNICATIONS INC

29FTC117P0080

FTC08G8157

SPECTRA LOGIC CORP.

FTC-11-G1088

FTC07G7318

FTC08G8082

FTC08G8294

FTC09G9068

FTC10G0169

FTC12H2140

SPECTRUM SYSTEMS, INC.

FTC08G8169

FTC10G0045

FTC12G2024

SPIRAX SARCO, INC.

FTC08G8213

FTC10H0191

SPOK INC

FTC08G8004

SPRINT COMMUNICATIONS COMPANY L.P.

FTC08G8166

FTC09G9212

ST NET INC.

FTC07G7213

STACEY COFIELD

FTC07H7151

STANDARD GRAPHICS MID-ATLANTIC, INC

FTC14H4081A

STANLEY PRESSER

FTC-15-H-5054

STATACORP LP

FTC07H7137

29FTC116F0025

29FTC117F0119

29FTC116F0087

FTC08H8262

FTC09H9235

FTC10G0231

FTC11G1115

FTC11H1012

FTC12G2029

FTC13G3006

FTC13G3117

STAY ONLINE CORP.

FTC10H0097

FTC10H0208

STEELCASE INC

FTC14G4193A

FTC10G0081

FTC10G0130

FTC10G0137

FTC10G0138

FTC10G0183

FTC09G9136

FTC09G9238

STERLING COMPUTERS CORP.

29FTC116F0043

29FTC116F0044

29FTC116F0047

29FTC116F0048

29FTC117F0055

29FTC117F0114

29FTC117F0121

29FTC117F0130

FTC12H2110

FTC15G5100

FTC16G6035

STOCKING, JACQUELINE C.

FTC15H5133

STRATEGIC INITIATIVES CONSULTI

FTC13G3151

SUMMATION LEGAL TECHNOLOGIES INC.

FTC07H7146

SUMMIT GROUP LLC

FTC11H1121A

FTC14H4101

SUNBELT SOFTWARE DISTRIBUTION INC.

FTC08H8037

SUNNYMOON PRODUCTIONS

FTC11H1174

SUPERIOR INFORMATION SERVICES INC.

FTC05H5246

SUPPLYSOURCE DC, LLC

29FTC117F0172

SWISH DATA CORP.

FTC12H2095

SWORD & SHIELD ENTERPRISE SECURITY, INC.

FTC08G8222

FTC09G9185

FTC09G9227

FTC09G9094

FTC10G0116

FTC10G0220

FTC12G2011

FTC12G2081

SYMANTEC CORP.

FTC07G7201

FTC08G8025

FTC08G8049

FTC08G8105

FTC09G9057

FTC09G9077

FTC09G9192

FTC10G0066

FTC11H1068

FTC12G2113

FTC12H2088

FTC13H3046

FTC13H3062

SYMPORA, INC.

FTC10H0239

SYNEREN TECHNOLOGIES CORP.

FTC13Z3013/1001

FTC13Z3013/1002

SYNOVATE

FTC08G8291

FTC08H8210

FTC08H8251

FTC09H9094

FTC10H0289

FTC14G4018

SYSCOM SERVICES, INC.

FTC08G8106

SYSTEM ENGINEERING INTERNATIONAL INC

FTC08H8040

SYSTEM TOOLS, LLP

FTC08H8085

TANDBERG, INC

FTC08G8299

FTC08G8300

FTC08G8301

FTC09G9029

FTC09G9135

FTC09G9241

FTC10G0087

FTC11G1007

TCOOMBS AND ASSOCIATES LLC

FTC09G9103

TDG INC.

FTC09G9144

TECH, INC

FTC09H9149

FTC10H0037

FTC10H0040

FTC10H0074

FTC10H0101

FTC10H0156

FTC10H0171

FTC10H0175

FTC10H0185

FTC10H0248

FTC10H0270

FTC10H0272

FTC10H0278

FTC11A1002

FTC11H1004

TECHLAW SOLUTIONS, INC.

FTC08G8217

FTC09G9189

FTC10G0076

FTC11G1050

TECHNICA CORP.

FTC08G8303A

FTC09H9184

TECHNICAL COMMUNITIES INC.

FTC10G0202

TECHSMITH CORP.

FTC08H8109

FTC12H2117

TEEL, INC.

FTC11H1204

TENABLE NETWORK SECURITY, INC.

FTC11H1039

FTC13H3019

TESS WALD PRODUCTIONS, INC.

FTC10H0268

THE BUREAU OF NATIONAL AFFAIRS

FTC10G0008

FTC10G0009

FTC11G1011

FTC12G2005

FTC13G3017

THE COMPETITION COMMISSION OF SOUTH AFRICA

V073935002

THE GUNLOCKE COMPANY

FTC09G9109

HON COMPANY, THE

FTC09G9165

MATHWORKS INC., THE

29FTC116P0017

FTC08H8156

FTC08H8261

FTC09H9162

FTC10H0013

FTC10H0224

FTC11H1024

FTC11H1146

FTC12H2004

FTC12H2176

FTC15H5157A

OGILVY GROUP INC., THE

FTC07G7310

PRESIDIO CORP., THE

FTC08G8112

FTC09G9039

FTC09G9096

FTC09G9098

FTC09G9099

FTC09G9208

FTC10G0126

FTC11G1049

THERM-O-LITE INC

FTC09G9156

THOMAS W BLACK

FTC09H9109

THOMSON HEALTHCARE INC.

FTC08H8069

THOMSON REUTERS (HEALTHCARE) INC.

FTC09H9207

THREE WIRE SYSTEMS

FTC09G9032

THUNDERCAT TECHNOLOGY, LLC

29FTC116F0080

29FTC117F0160

FTC12H2223

TINA Y MARK

FTC07G7336

TKC INTEGRATION SERVICES LLC

FTC09G9040

FTC10G0118

T-MOBILE USA INC

FTC08G8045

FTC08G8172

FTC10G0067

FTC08G8045A

TONER EXPRESS USA INC

FTC08G8055

FTC08G8258

TRACTENBERG, ROCHELLE

FTC14H4084

TRANSOURCE SERVICES CORP.

29FTC117F0006

29FTC117F0041

TRIAL RUN INC

FTC08A8012/8002

FTC08A8012/9001

FTC08A8012/9002

TRIGEO NETWORK SECURITY INC

FTC09H9036

FTC10H0045

FTC10H0315

FTC11H1058

FTC11H1118

FTC07H7155

TRINH ANH TUAN

FTC08H8100

TRINITY FURNITURE INC.

FTC10G0106

TSRC, INC.

FTC12G2036

FTC12G2079

FTC12G2080

FTC13G3029

FTC13G3062

FTC15G5017

UCG INFORMATION SERVICES LLC

FTC08H8010

UCG INFORMATION SERVICES, LLC

FTC08H8183

FTC09H9138

FTC09H9188

FTC10H0220

FTC11H1025

FTC11H1152

UI WIZARDS INC

FTC14H4102

UNICA CORP.

FTC08H8051

UNICOM GOVERNMENT, INC.

FTC08G8319

UNISTAR-SPARCO COMPUTERS, INC.

29FTC116F0037

29FTC116F0085

29FTC116F0089

UNISYS CORP.

FTC08G8079

FTC10G0134

FTC11G1101

UNITED BUSINESS MACHINES, INC.

FTC08H8267

UNITED PARCEL SERVICE INC (OH)

FTC07A7004

UNIVERSITY OF MISSISSIPPI

FTC09H9047

URIA MENENDEZ

V070501007

URS FEDERAL SERVICES, INC.

FTC12G2128

US INVESTIGATIONS SERVICES INC.

FTC13G3031

V & C BROTHERS

FTC07A7002

V3GATE, LLC

29FTC118F0042

VADOR VENTURES INC

FTC09H9259

FTC11H1061

FTC05L5029

FTC05L5029A

FTC05L5029B

VARIDESK, LLC

29FTC117C0132

FTC15H5074

VARITRONIC SYSTEMS INC.

FTC07G7323

VBRICK SYSTEMS, INC

FTC09G9086

FTC10G0232

VERISIGN INC.

FTC07G7203

FTC08H8068

FTC09H9056

FTC10H0066

FTC11H1123

VERISPAN LLC

FTC07H7169

FTC08H8179

VERITY, INC

FTC08G8131

FTC09G9104

VERSAR SECURITY SYSTEMS, LLC

FTC07G7149

VERTIV SERVICES, INC.

FTC10H0046

VIAFORENSICS

FTC14H4063

VICTORIA A HASTIE

FTC09H9264

VISION TECHNOLOGIES, INC.

FTC15A5003/03

FTC15A5003/2

FTC15A5003

FTC15A5003

VISIONTECH INC

FTC10G0207B

VMWARE, INC.

FTC08H8195

FTC10H0213

FTC12H2153

VVL SYSTEMS & CONSULTING, LLC

FTC14H4178

W S I MANUFACTURING INC.

FTC09G9102

FTC11G1055

WASHINGTON EXPRESS LLC

FTC12G2014

WASHINGTON REFRIGERATION CO., INC.

FTC09H9113

WAVE SOFTWARE, LLC

FTC12H2041

FTC13H3035

FTC15H5153

WAYSIDE TECHNOLOGY GROUP, INC.

FTC08H8063

WEAVER, CONNIE M

FTC10H0327

WEINSCHENK INSTITUTE, LLC

FTC13H3034

FTC13H3069

WERRES CORP.

FTC09G9183

WEST PUBLISHING CORP

FTC08G8006B

FTC08G8053

FTC08H8272

FTC09G9076

FTC09G9243

FTC11G1069

FTC11G1157

FTC12G2061

FTC12H2120

FTC13G3053

FTC13G3061

FTC13H3157

FTC16G6052

WESTAT, INC

FTC08G8065

FTC06G6261

WESTCON GROUP NORTH AMERICA, INC.

FTC11G1153

WESTPORT63 CONSULTING

FTC08H8011

WHITAKER BROTHERS BUSINESS MACHINES INC

FTC10G0117

WILLIAM S. HEIN & CO., INC.

FTC09H9089

FTC10H0127

FTC11H1089

FTC12H2126

FTC14H4077

FTC15H5112

WILMARTH JR, ARTHUR E

FTC08H8142

WILSON-EPES PRINTING CO INC

FTC09H9087

WINERMAN, MARC

FTC14H4088

WIRTHLIN WORLDWIDE, LLC

FTC08G8285

WOLFRAM RESEARCH INC.

FTC08H8278

FTC09H9126

FTC10H0017

FTC08H8075

FTC10H0215

FTC11H1023

FTC11H1132

FTC16H6021

WORKRITE ERGONOMICS INC

FTC15G5054

WORLD WIDE TECHNOLOGY INC

FTC08G8101

FTC08G8122

FTC08G8142

FTC09G9083

FTC09G9251

FTC11G1029

FTC11G1033

FTC11G1168

29FTC117F0162

XEROX CORP.

FTC06G6300

FTC06G6300A

FTC08G8034A

FTC13G3015

XL CONSTRUCTION, LLC

FTC10H0223

YORK TELECOM CORP.

Task order number after the “/”

29FTC116F0024

29FTC117F0024

29FTC117F0003

29FTC117F0004

29FTC117F0010

29FTC117F0030

29FTC117F0037

29FTC117F0040

29FTC117F0059

29FTC117F0074

29FTC117F0086

29FTC117F0143

29FTC118F0003

29FTC118F0013

29FTC118F0043

29FTC118F0044

29FTC118F0053

29FTC118F0065

FTC14A4002/0002

FTC14A4002/0003

FTC14A4002/0004

FTC14A4002/0005

FTC14A4002/0006

FTC14A4002/0007

FTC14A4002/0008

FTC14A4002/0009

FTC14A4002/0011

FTC14A4002/0012

FTC14A4002/0015

FTC14A4002/0017

FTC14A4002/0018

FTC15G5081

FTC16G6045

[FR Doc. 2019-16954 Filed 8-7-19; 8:45 am]

BILLING CODE 6750-01-P